DEPARTMENT OF TRANSPORTATION

Surface Transportation Board

[STB Finance Docket No. 34345 (Sub-No. 1)]

The Burlington Northern and Santa Fe Railway Company—Trackage Rights Exemption—Union Pacific Railroad Company

AGENCY: Surface Transportation Board.

ACTION: Petition for partial revocation.

SUMMARY: The Board, under 49 U.S.C. 10502, exempts the trackage rights arrangement described in STB Finance Docket No. 34345 ¹ to permit the trackage rights to expire on or about May 22, 2003, in accordance with the agreement of the parties.

¹ On April 25, 2003, The Burlington Northern and Santa Fe Railway Company (BNSF) filed a notice of exemption under the Board's class exemption procedures at 49 CFR 1180.2(d)(7). The notice covered the agreement by Union Pacific Railroad Company (UP) to grant limited overhead trackage rights to BNSF over UP lines between Port Chicago, CA, at milepost 41.3 on UP's Tracy Subdivision, and Stege, CA, at milepost 9.3 on UP's Martinez Subdivision, a distance of approximately 28.7 miles—6.3 on the Tracy Subdivision and 22.4 miles on the Martinez Subdivision. See The Burlington Northern and Santa Fe Railway Company—Trackage Rights Exemption—Union Pacific Railroad Company, STB Finance Docket No. 34345 (STB served May 15, 2003). The trackage rights operations under the exemption were scheduled to begin on May 2, 2003.

DATES: This exemption will be effective on May 23, 2003. Petitions to reopen must be filed by June 19, 2003.

ADDRESSES: An original and 10 copies of all pleadings referring to STB Finance Docket No. 34345 (Sub-No. 1) must be filed with the Surface Transportation Board, 1925 K Street, NW., Washington, DC 20423-0001. In addition, a copy of all pleadings must be served on BNSF's representative: Michael E. Roper, 2500 Lou Menk Drive, P.O. Box 961039, Fort Worth, TX 76161-0039.

FOR FURTHER INFORMATION CONTACT: Joseph H. Dettmar (202) 565-1600 (Federal Information Relay Service (FIRS) for the hearing impaired: 1-800-877-8339).

SUPPLEMENTARY INFORMATION: Additional information is contained in the Board's decision. To purchase a copy of the full decision, write to, call, or pick up in person from: Dā 2 Dā Legal Copy Service, Suite 405, 1925 K Street, NW., Washington, DC 20006. Telephone: (202) 293-7776. (Assistance for the hearing impaired is available through FIRS at 1-800-877-8339.)

Board decisions and notices are available on our Web site at www.stb.dot.gov.

Decided: May 23, 2003.
By the Board, Chairman Nober.
Vernon A. Williams,
Secretary.

[FR Doc. 03-13537 Filed 5-29-03; 8:45 am]

BILLING CODE 4915-00-P